DEPARTMENT OF COMMERCE

International Trade Administration

[A-580-909, A-821-826, A-823-819]

Seamless Carbon and Alloy Steel Standard, Line, and Pressure Pipe From the Republic of Korea, the Russian Federation, and Ukraine: Antidumping Duty Orders

AGENCY: Enforcement and Compliance, International Trade Administration, Department of Commerce.

SUMMARY: Based on affirmative final determinations by the Department of Commerce (Commerce) and the International Trade Commission (ITC), Commerce is issuing antidumping duty orders on seamless carbon and alloy steel standard, line, and pressure pipe (seamless pipe) from the Republic of Korea (Korea), the Russian Federation (Russia), and Ukraine.

DATES: Applicable August 23, 2021.

FOR FURTHER INFORMATION CONTACT: Joshua DeMoss (Korea), Mark Hoadley (Russia), or Lilit Astvatsatrian (Ukraine) AD/CVD Operations, Enforcement and Compliance, International Trade Administration, U.S. Department of Commerce, 1401 Constitution Avenue NW, Washington, DC 20230; telephone: (202) 482-3362, (202) 482-3148, or (202) 482-6412, respectively.

SUPPLEMENTARY INFORMATION:

Background

In accordance with sections 735(d) and 777(i)(1) of the Tariff Act of 1930, as amended (the Act), and 19 CFR 351.210(c), on July 2, 2021, Commerce published in the Federal Register its affirmative final determinations in the less-than-fair-value investigations of seamless pipe from Korea, Russia, and Ukraine.¹ On August 16, 2021, the ITC notified Commerce of its affirmative final determinations that an industry in the United States is materially injured, within the meaning of section 735(b)(1)(A)(i) of the Act, by reason of the less-than-fair-value imports of seamless pipe from Korea, Russia, and Ukraine.²

¹ See Seamless Carbon and Alloy Steel Standard, Line, and Pressure Pipe from the Republic of Korea: Final Affirmative Determination of Sales at Less Than Fair Value, 86 FR 35274 (July 2, 2021); see also Seamless Carbon and Alloy Steel Standard, Line, and Pressure Pipe from the Russian Federation: Final Affirmative Determination of Sales at Less Than Fair Value, 86 FR 35269 (July 2, 2021); and Seamless Carbon and Alloy Steel Standard, Line, and Pressure Pipe from Ukraine: Final Affirmative Determination of Sales at Less Than Fair Value, 86 FR 35272 (July 2, 2021).

² See Seamless Carbon and Alloy Steel Standard, Line, and Pressure Pipe from Korea, Russia, and Ukraine, USITC Investigation Nos. 701-TA-654-655 and 731-TA-1530-1532 (Final) (August 16, 2021).

Scope of the Orders

The merchandise covered by these orders is seamless pipe from Korea, Russia, and Ukraine. For a complete description of the scope of these orders, see the appendix to this notice.

Antidumping Duty Orders

Given Commerce's affirmative final determinations, as noted above, and notification from the ITC, in accordance with section 735(d) of the Act, of its final determinations in these investigations, in which it found that an industry in the United States is materially injured, within the meaning of section 735(b)(1)(A)(i) of the Act, by reason of imports of seamless pipe from Korea, Russia, and Ukraine,³ Commerce is issuing antidumping duty orders on seamless pipe from Korea, Russia, and Ukraine. Because the ITC determined that imports of seamless pipe from Korea, Russia, and Ukraine are materially injuring a U.S. industry, unliquidated entries of subject merchandise from Korea, Russia, and Ukraine, that was entered into the United States, or withdrawn from warehouse, for consumption are subject to the assessment of antidumping duties.

³ Id.

Therefore, in accordance with section 736(a)(1) of the Act, Commerce will direct U.S. Customs and Border Protection (CBP) to assess, upon further instructions by Commerce, antidumping duties equal to the amount by which the normal value of the foreign like product exceeds the export price (or constructed export price) of subject merchandise, for all relevant entries of seamless pipe from Korea, Russia, and Ukraine. With the exception of entries occurring after the expiration of the provisional measures period and before publication of the ITC's final affirmative injury determinations in the Federal Register, as further described below, antidumping duties will be assessed on unliquidated entries of seamless pipe from Korea, Russia, and Ukraine entered, or withdrawn from warehouse, for consumption, on or after February 10, 2021, the date of publication of the Preliminary Determinations.⁴

⁴ See Seamless Carbon and Alloy Steel Standard, Line, and Pressure Pipe from the Republic of Korea: Preliminary Affirmative Determination of Sales at Less Than Fair Value, Postponement of Final Determination, and Extension of Provisional Measures, 86 FR 8887 (February 10, 2021); see also Seamless Carbon and Alloy Steel Standard, Line, and Pressure Pipe from the Russian Federation: Preliminary Affirmative Determination of Sales at Less Than Fair Value, Postponement of Final Determination, and Extension of Provisional Measures, 86 FR 8891 (February 10, 2021); and Seamless Carbon and Alloy Steel Standard, Line, and Pressure Pipe from Ukraine: Preliminary Affirmative Determination of Sales at Less Than Fair Value, Postponement of Final Determination, and Extension of Provisional Measures, 86 FR 8889 (February 10, 2021) (collectively, Preliminary Determinations).

Continuation of Suspension of Liquidation

In accordance with section 736 of the Act, Commerce intends to instruct CBP to continue to suspend liquidation of all relevant entries of seamless pipe from Korea, Russia, and Ukraine. These instructions suspending liquidation will remain in effect until further notice. Commerce also intends to instruct CBP to require cash deposits equal to the estimated weighted-average dumping margins indicated in the tables below. Accordingly, effective on the date of publication in the Federal Register of the notice of the ITC's final affirmative injury determinations, CBP will require, at the same time that importers would normally deposit estimated duties on the merchandise, a cash deposit equal to the rates listed below. The relevant all-others rates apply to all producers or exporters not specifically listed.

Provisional Measures

Section 733(d) of the Act states that the instructions issued under section 733(d)(1) and (2) of the Act pursuant to an affirmative preliminary determination, may not remain in effect for more than four months, except that Commerce may extend the four-month period to no more than six months at the request of exporters representing a significant proportion of exports of the subject merchandise. At the request of exporters that account for a significant proportion of seamless pipe from Korea, Russia, and Ukraine, Commerce extended the four-month period in each of these investigations. Commerce published the Preliminary Determinations in these investigations in the Federal Register on February 10, 2021.⁵

⁵ Id.

The extended provisional measures period, beginning on the date of publication of the Preliminary Determinations, ended on August 8, 2021. Therefore, in accordance with section 733(d) of the Act and its practice,⁶ Commerce will instruct CBP to terminate the suspension of liquidation and to liquidate, without regard to antidumping duties, unliquidated entries of seamless pipe from Korea, Russia, and Ukraine entered, or withdrawn from warehouse, for consumption after August 8, 2021, the final day on which the provisional measures were in effect, until and through the day preceding the date of publication of the ITC's final affirmative injury determinations in the Federal Register. Suspension of liquidation and the collection of cash deposits will resume on the date of publication of the ITC's final determinations in the Federal Register.

⁶ See, e.g., Certain Corrosion-Resistant Steel Products from India, Italy, the People's Republic of China, the Republic of Korea, and Taiwan: Amended Final Affirmative Antidumping Determination for India and Taiwan, and Antidumping Duty Orders, 81 FR 48390, 48392 (July 25, 2016).

Estimated Weighted-Average Dumping Margins

The estimated weighted-average dumping margins are as follows:

Korea:

Exporter/producer | Estimated weighted- average dumping margin (percent) | Cash deposit rate (adjusted for subsidy offset) (percent) ⁷
ILJIN Steel Corporation | 4.48 | 4.44
All Others | 4.48 | 4.44

Russia:

Exporter/producer | Estimated weighted- average dumping margin (percent)
PAO TMK and Volzhsky Pipe Plant Joint Stock Company (collectively, TMK) | 209.72
All Others | 209.72

Ukraine:

Exporter/producer | Estimated dumping margin (percent)
Interpipe Ukraine LLC/PJSC Interpipe Niznedneprovksy Tube Rolling Plant/LLC Interpipe Niko Tube | 23.75
All Others | 23.75

Notification to Interested Parties

This notice constitutes the antidumping duty orders with respect to seamless pipe from Korea, Russia, and Ukraine pursuant to section 736(a) of the Act. Interested parties can find a list of antidumping duty orders currently in effect at http://enforcement.trade.gov/stats/iastats1.html.

⁷ In the companion countervailing duty (CVD) investigation, Commerce calculated a 0.04 percent export subsidy rate for ILJIN Steel Corporation. See Seamless Carbon and Alloy Steel Standard, Line, and Pressure Pipe from the Republic of Korea: Final Affirmative Countervailing Duty Determination, 86 FR 35267 (July 2, 2021), and accompanying Issues and Decision Memorandum.

These antidumping duty orders are published in accordance with section 736(a) of the Act and 19 CFR 351.211(b).

Dated: August 17, 2021.
Christian Marsh,
Acting Assistant Secretary for Enforcement and Compliance.

Appendix—Scope of the Orders

The merchandise covered by the scope of the orders is seamless carbon and alloy steel (other than stainless steel) pipes and redraw hollows, less than or equal to 16 inches (406.4 mm) in nominal outside diameter, regardless of wall-thickness, manufacturing process (e.g., hot finished or cold-drawn), end finish (e.g., plain end, beveled end, upset end, threaded, or threaded and coupled), or surface finish (e.g., bare, lacquered or coated). Redraw hollows are any unfinished carbon or alloy steel (other than stainless steel) pipe or “hollow profiles” suitable for cold finishing operations, such as cold drawing, to meet the American Society for Testing and Materials (ASTM) or American Petroleum Institute (API) specifications referenced below, or comparable specifications. Specifically included within the scope are seamless carbon and alloy steel (other than stainless steel) standard, line, and pressure pipes produced to the ASTM A-53, ASTM A-106, ASTM A-333, ASTM A-334, ASTM A-589, ASTM A-795, ASTM A-1024, and the API 51 specifications, or comparable specifications, and meeting the physical parameters described above, regardless of application, with the exception of the exclusions discussed below.

Specifically excluded from the scope of the orders are: (1) All pipes meeting aerospace, hydraulic, and bearing tubing specifications, including pipe produced to the ASTM A-822 standard; (2) all pipes meeting the chemical requirements of ASTM A-335, whether finished or unfinished; and (3) unattached couplings. Also excluded from the scope of the orders are (1) all mechanical, boiler, condenser and heat exchange tubing, except when such products conform to the dimensional requirements, i.e., outside diameter and wall thickness, of ASTM A53, ASTM A-106 or API 51 specifications. Also excluded from the scope of the orders are: (1) Oil country tubular goods consisting of drill pipe, casing, tubing and coupling stock; (2) all pipes meeting the chemical requirements of ASTM A-335 regardless of their conformity to the dimensional requirements of ASTM A-53, ASTM A-106 or API 5L; and (3) the exclusion for ASTM A335 applies to pipes meeting the comparable specifications GOST 550-75.

Subject seamless standard, line, and pressure pipe are normally entered under Harmonized Tariff Schedule of the United States (HTSUS) subheadings 7304.19.1020, 7304.19.1030, 7304.19.1045, 7304.19.1060, 7304.19.5020, 7304.19.5050, 7304.31.6050, 7304.39.0016, 7304.39.0020, 7304.39.0024, 7304.39.0028, 7304.39.0032, 7304.39.0036, 7304.39.0040, 7304.39.0044, 7304.39.0048, 7304.39.0052, 7304.39.0056, 7304.39.0062, 7304.39.0068, 7304.39.0072, 7304.51.5005, 7304.51.5060, 7304.59.6000, 7304.59.8010, 7304.59.8015, 7304.59.8020, 7304.59.8025, 7304.59.8030, 7304.59.8035, 7304.59.8040, 7304.59.8045, 7304.59.8050, 7304.59.8055, 7304.59.8060, 7304.59.8065, and 7304.59.8070. The HTSUS subheadings and specifications are provided for convenience and customs purposes; the written description of the scope is dispositive.

[FR Doc. 2021-18187 Filed 8-20-21; 8:45 am]

BILLING CODE 3510-DS-P